DEPARTMENT OF COMMERCE

National Oceanic and Atmospheric Administration

[I.D. 111003A]

Marine Mammals; File No. 1048-1717

AGENCY: National Marine Fisheries Service (NMFS), National Oceanic and Atmospheric Administration (NOAA), Commerce.

ACTION: Notice of public meeting.

SUMMARY: NMFS will hold a public meeting regarding the scientific research proposed by Dr. Peter J. Stein, Scientific Solutions, Inc., Nashua, New Hampshire, in an application for a scientific research permit and analyzed in a draft environmental assessment.

DATES: The meeting will be held on November 20, 2003 at 1 pm.

ADDRESSES: The meeting will be held at the NOAA Silver Spring Metro Center Complex, Room 1W611, 1305 East-West Highway, Silver Spring, MD 20910.

FOR FURTHER INFORMATION CONTACT: Dr. Tammy Adams or Steve Leathery, (301)713-2289.

SUPPLEMENTARY INFORMATION: On November 5, 2003, notice was published in the Federal Register (68 FR 62563) that a request for a scientific research permit had been submitted by Dr. Stein to conduct studies to validate and improve the ability of short-range high-frequency whale-finder sonar systems to detect marine mammals without adversely affecting them. A draft Environmental Assessment (EA) was prepared to examine whether significant environmental impacts could result from issuance of the proposed scientific research permit. Comments on the application and/or the draft EA must be received by December 5, 2003. NMFS will hold a public meeting to inform interested parties of the proposed research and solicit comments on the application and accompanying draft EA. Please be advised that a valid government-issued photo-identification will be required for entry through building security.

Special Accommodations

This meeting is accessible to people with disabilities. Requests for sign language interpretation or other auxiliary aids should be directed to Tyrone Stuckey or Dee Jenkins, 301-713-2289 (voice) or 301-713-0376 (fax), at least five business days before the scheduled meeting date.

Dated: November 10, 2003.
Stephen L. Leathery,
Chief, Permits, Conservation and Education Division, Office of Protected Resources, National Marine Fisheries Service.

[FR Doc. 03-28664 Filed 11-14-03; 8:45 am]

BILLING CODE 3510-22-S